DEPARTMENT OF HEALTH AND HUMAN SERVICES

Centers for Disease Control and Prevention

[30DAY-22-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer, Human Resources and Housing Branch, New Executive Office Building, Room 10235, Washington, DC 20503. Written comments should be received within 30 days of this notice.

Proposed Project

Health Hazard Evaluations/Technical Assistance and Emerging Problems (OMB No. 0920-0260)—Extension—National Institute for Occupational Safety and Health (NIOSH), Centers for Disease Control and Prevention (CDC). In accordance with its mandates under the Occupational Safety and Health Act of 1970 and the Federal Mine Safety and Health Act of 1977, the National Institute for Occupational Safety and Health (NIOSH) responds each year to approximately 400 requests for health hazard evaluations to identify potential chemical, biological, or physical hazards at the workplace.

Approximately half of these requests require that NIOSH conduct a short-term field study to adequately address the issues raised by the requester. Since 1970, more than 10,000 of these studies have been completed. The main purpose of these studies is to help employers and employees identify and eliminate occupational health hazards. Ninety-five percent of these investigations respond to specific requests for assistance from employers, employees, employee representatives, or other government agencies. The remaining investigations are short-term field investigations initiated by NIOSH because it received information that a chemical, biological or physical agent may be hazardous to workers. In these investigations, NIOSH determines whether the issue warrants more detailed studies. Approximately fifty percent of the field investigations involve interviews or the administration of a questionnaire to the workers. Each questionnaire is specific to that workplace and its suspected diseases and/or hazards; however, questionnaires are derived from standard medical evaluation techniques. NIOSH distributes interim and final reports of the investigations, excluding personal identifiers, to requesters, employers, employee representatives, the Department of Labor (OSHA and MSHA) and, as appropriate, other state and federal agencies. Following the completion of field investigations, NIOSH administers follow-back questionnaires to employer and employee representatives at the workplace to assess program effectiveness and identify areas for improvement. Because of the large number of investigations conducted each year, the need to respond quickly to requests for assistance and the diverse nature of these investigations, NIOSH requests clearance for data collection in these investigations. The estimated annual burden hours are 4,093.

Respondents | Number of respondents | Number of responses per respondent | Avg. burden per response (in hours)
Employees (initial interviews) | 4,200 | 1 | 15/60
Employees (questionnaires interviews) | 5.250 | 1 | 30/60
Employees (follow-back questionnaires) | 500 | ¹ 1 ¹ 1 ² 1 | 10/60 15/60 15/60
Employees (follow-back questionnaires) | 200 | ¹ 1 ² 1 | 10/60 15/60
¹ (Year 1)
² (Year 2)

Dated: March 30, 2001.
Nancy E. Cheal,
Acting Associate Director for Policy, Planning, and Evaluation, Centers for Disease Control and Prevention (CDC).

[FR Doc. 01-8458 Filed 4-5-01; 8:45 am]

BILLING CODE 4163-18-P